DEPARTMENT OF DEFENSE

48 CFR Part 224

[DFARS Case 2003-D038]

Defense Federal Acquisition Regulation Supplement; Protection of Privacy and Freedom of Information

AGENCY: Department of Defense (DoD).

ACTION: Final rule.

SUMMARY: DoD has issued a final rule amending the Defense Federal Acquisition Regulation Supplement (DFARS) to delete text pertaining to the applicability of the Privacy Act to certain contractor records. This rule is a result of a transformation initiative undertaken by DoD to dramatically change the purpose and content of the DFARS.

DATES: Effective November 22, 2004.

FOR FURTHER INFORMATION CONTACT: Mr. Euclides Barrera, Defense Acquisition Regulations Council, OUSD (AT&L) DPAP (DAR), IMD 3C132, 3062 Defense Pentagon, Washington, DC 20301-3062. Telephone (703) 602-0296; facsimile (703) 602-0350. Please cite DFARS Case 2003-D038.

SUPPLEMENTARY INFORMATION:

A. Background

DFARS Transformation is a major DoD initiative to dramatically change the purpose and content of the DFARS. The objective is to improve the efficiency and effectiveness of the acquisition process, while allowing the acquisition workforce the flexibility to innovate. The transformed DFARS will contain only requirements of law, DoD-wide policies, delegations of FAR authorities, deviations from FAR requirements, and policies/procedures that have a significant effect beyond the internal operating procedures of DoD or a significant cost or administrative impact on contractors or offerors. Additional information on the DFARS Transformation initiative is available at http://www.acq.osd.mil/dpap/dfars/transf.htm.

This final rule is a result of the DFARS Transformation initiative. The rule deletes DFARS 224.102, which specifies that the Privacy Act (5 U.S.C. 552a) does not apply to certain contractor records. The DFARS text is unnecessary, because this issue is adequately addressed in DoD Regulation 5400.11-R, Department of Defense Privacy Program, which is referenced in DFARS 224.103.

DoD published a proposed rule at 69 FR 8152 on February 23, 2004. DoD received one comment in response to the proposed rule, and that comment supported the rule. Therefore, DoD has adopted the proposed rule as a final rule without change.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because deletion of the DFARS text does not represent a change in DoD policy. Applicability of the Privacy Act is adequately addressed in other DoD publications.

C. Paperwork Reduction Act

The Paperwork Reduction Act does not apply because the rule does not impose any information collection requirements that require the approval of the Office of Management and Budget under 44 U.S.C. 3501, et seq.

List of Subjects in 48 CFR Part 224

Government procurement.

Michele P. Peterson,
Executive Editor, Defense Acquisition Regulations Council.

Therefore, 48 CFR part 224 is amended as follows:

1. The authority citation for 48 CFR part 224 continues to read as follows:

Authority: 41 U.S.C. 421 and 48 CFR Chapter 1.

PART 224—PROTECTION OF PRIVACY AND FREEDOM OF INFORMATION

224.102 [Removed]

2. Section 224.102 is removed.

[FR Doc. 04-25827 Filed 11-19-04; 8:45 am]

BILLING CODE 5001-08-P